DEPARTMENT OF COMMERCE

National Oceanic and Atmospheric Administration

RIN 0648-XD321

New England Fishery Management Council; Public Meeting

AGENCY: National Marine Fisheries Service (NMFS), National Oceanic and Atmospheric Administration (NOAA), Commerce.

ACTION: Notice of a public meeting.

SUMMARY: The New England Fishery Management Council (Council) will hold a three-day meeting, on June 17-19, 2014, to consider actions affecting New England fisheries in the exclusive economic zone (EEZ).

DATES: The meeting will be held on Tuesday, Wednesday and Thursday, starting at 9:30 a.m. on Tuesday, June 17, and 8:30 a.m. on Wednesday and Thursday, June 18 and 19.

ADDRESSES: The meeting will be held at the Holiday Inn by the Bay, 88 Spring Street, Portland, ME 04101; telephone: (207) 775-2311, and fax: (207) 761-8224. See www.innbythebay.com for online information about the venue.

Council Address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION:

Tuesday, June 17, 2014

The Council meeting will begin with introductions and brief reports from the New England Fishery Management Council Chairman (NEFMC) and Executive Director, the NOAA Fisheries Regional Administrator, the Northeast Fisheries Science Center and Mid-Atlantic Fishery Management Council liaisons, NOAA General Counsel and Law Enforcement, and representatives of the Atlantic States Marine Fisheries Commission and the U.S Coast Guard. A brief report from the Council Chairman and Executive Director will follow concerning the most recent meetings of the Northeast Region Coordinating Council and the Council Coordination Committee. Prior to a lunch break, there will be an opportunity for the public to provide brief comments on items that are relevant to Council business, but are otherwise not listed on the published agenda. The afternoon session on this day will begin with a progress report from the Council's Ecosystem Based Fisheries Management Committee. The Council also will hear two reports based on topics related to the International Commission for the Conservation of Atlantic Tunas last meeting in South Africa. Next, there will be an update on the development of a risk policy that will serve as guidance to the Council and its Scientific and Statistical Committee when addressing scientific and management uncertainty in setting annual catch limits for NEFMC-managed species. During this same afternoon there will be a presentation on a NOAA Fisheries/Greater Atlantic Regional Fisheries Office (GARFO)-developed Vessel Baseline Amendment and Council approval of the range of management alternatives to be further analyzed and considered. The day will conclude with a summary of NOAA Fisheries efforts to develop a National Policy for Recreational Fishing.

Wednesday, June 18, 2014

The second day of the Council meeting will begin with a review and possible development of NEFMC comments on the U.S. Senate staff draft discussion document circulated by members of Congress in preparation for reauthorizing the Magnuson-Stevens Fishery Conservation and Management Act. Two reports on electronic monitoring on board fishing vessels will then be presented. The first will provide a summary of outcomes resulting from a recent electronic monitoring workshop; and the second will be a report on the activities of the NEFMC's Groundfish Electronic Monitoring Working Group. The Council's Groundfish Committee will begin their report prior to a lunch break. It will request approval of Framework Adjustment 52 to the Northeast Multispecies (Groundfish) FMP, an action that would revise the commercial groundfish fishery accountability measures for southern and northern windowpane flounder stocks. During the discussion of Amendment 18 to the Groundfish FMP, the Council intends to approve the range of alternatives (for fleet diversity and accumulation limits) for further analysis in a Draft Environmental Impact Statement (DEIS). Last under this agenda item, the NEFMC will initiate action (Framework Adjustment 53 to the Groundfish FMP) on specifications for the three groundfish stocks managed under the U.S. Resource Sharing Understanding for 2015; and catch limits for Gulf of Maine haddock, two winter flounder stocks, and pollock for 2015‐17. Other measures will address the allocation of the windowpane flounder annual catch limits to other components of the fishery (sub-ACLs), accountability measures for those fisheries, and likely additional fishery management measures associated with these issues.

Thursday, June 19, 2014

Council actions on the final day of the meeting will focus on the Atlantic Sea Scallop FMP. The NEFMC will: Initiate Scallop Framework Adjustment 26 (specifications for fishing years 2015-16 and the default measures that could apply); review and approve a Council policy that outlines the process for the NEFMC's scallop research set-aside program; approve research set-aside priorities for fishing years 2015-16; and receive a performance report that reviews the sea scallop limited access general category IFQ fishery for 2010-12. Any other outstanding business will be addressed by the Council prior to adjournment.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: May 28, 2014.
Tracey L. Thompson,
Acting Deputy Director, Office of Sustainable Fisheries, National Marine Fisheries Service.

[FR Doc. 2014-12654 Filed 5-30-14; 8:45 am]

BILLING CODE 3510-22-P